DEPARTMENT OF COMMERCE

International Trade Administration

[A-421-807]

Postponement of Final Determination for Antidumping Duty Investigation: Certain Hot-Rolled Carbon Steel Flat Products From the Netherlands

AGENCY: Import Administration, International Trade Administration, Department of Commerce.

ACTION: Notice of Postponement of Final Antidumping Duty Determination of certain hot-rolled carbon steel flat products from the Netherlands.

SUMMARY: The Department of Commerce (the Department) is extending the time limit for the final determination in the antidumping duty investigation of certain hot-rolled carbon steel flat products from the Netherlands.

EFFECTIVE DATE: June 15, 2001.

FOR FURTHER INFORMATION CONTACT: Melissa A. Blackledge at 202-482-3518, Stephanie Arthur at 202-482-6312, or Robert James at 202-482-0649, Import Administration, International Trade Administration, U.S. Department of Commerce, 1401 Constitution Avenue, NW., Washington, DC 20230.

Applicable Statute and Regulations

Unless otherwise indicated, all citations to the Tariff Act of 1930, as amended (the Tariff Act), are references to the provisions effective January 1, 1995, the effective date of the amendments made to the Tariff Act by the Uruguay Round Agreements Act (URAA). In addition, unless otherwise indicated, all citations to the Department's regulations are to the regulations codified at 19 CFR part 351 (April 2000).

Postponement of Final Determination and Extension of Provisional Measures

On May 3, 2001, the Department published the affirmative preliminary determination for the investigation of certain hot-rolled carbon steel flat products from the Netherlands. See Notice of Preliminary Determination of Sales at Less Than Fair Value: Certain Hot-Rolled Carbon Steel Flat Products from the Netherlands, 66 FR 22146 (May 3, 2001). Pursuant to section 735(a)(2) of the Tariff Act and section 351.210(b)(2)(ii) of the Department's regulations, on May 22, 2001, respondent the Corus Group plc. (Corus) requested that the Department extend the final determination for the full sixty days as permitted by the statute and regulations, and extend provisional measures (i.e., suspension of liquidation) from a four-month period to a period not to exceed six months, pursuant to 19 CFR 351.210(e)(2).

Section 735(a)(2) of the Tariff Act provides that a final determination may be postponed until not later than 135 days after the date of the publication of the preliminary determination if, in the event of an affirmative determination, a request for such postponement is made by exporters who account for a significant proportion of exports of the subject merchandise, or in the event of a negative preliminary determination, a request for such postponement is made by petitioner. The Department's regulations, at 19 CFR 351.210(e)(2), require that requests by respondents for postponement of a final determination be accompanied by a request for extension of provisional measures from a four-month period to not more than six months.

In accordance with 19 CFR 351.210(b)(2)(ii), because (1) our preliminary determination is affirmative, (2) the respondent requesting a postponement accounts for a significant proportion of exports of the subject merchandise, and (3) no compelling reasons for denial exist, we are granting Corus' request and are postponing the final determination to no later than September 15, 2001, which is 135 days after the publication of the preliminary determination in the Federal Register. Suspension of liquidation will be extended accordingly.

This notice of postponement is published pursuant to 19 CFR 351.210(b)(2).

Dated: June 4, 2001.
Faryar Shirzad,
Assistant Secretary for Import Administration.

[FR Doc. 01-15167 Filed 6-14-01; 8:45 am]

BILLING CODE 3510-DS-M